DEPARTMENT OF JUSTICE

Federal Bureau of Investigation

Bureau Information Collection Activities: Proposed Collection; Comments Requested

ACTION: 60-day notice of information collection under review: communications assistance for Law Enforcement Act readiness survey.

The Department of Justice, Federal Bureau of Investigation (FBI), has submitted the following information collection request to the Office of Management and Budget (OMB) for review and approval in accordance with the Paperwork Reduction Act of 1995. The proposed information collection is published to obtain comments from the public and affected agencies. Comments are encouraged and will be accepted for “sixty days” until June 13, 2005. This process is conducted in accordance with 5 CFR 1320.10.

If you have comments especially on the estimated public burden or associated response time, suggestions, or need a copy of the proposed information collection instrument with instructions or additional information, please contact Norm Wright, CIU-FBI, 14800 Conference Center Drive, Suite 300, Chantilly, VA 20151 or nwright@askcalea.net.

Written comments and suggestions from the public and affected TSPs concerning the proposed collection of information are encouraged. Your comments should address one or more of the following four points:

• Evaluate whether the proposed collection of information is necessary for the proper performance of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological techniques or other forms of information technology.

Overview of this information collection:

(1) Type of Information Collection: New collection.

(2) Title of the Form/Collection: Communications Assistance for Law Enforcement Act (CALEA) Readiness Survey.

(3) Agency form number, if any, and the applicable component of the Department of Justice sponsoring the collection: Form Number: None. Bureau of Federal Investigation.

(4) The information collected in the survey will be stored in a database and be used to evaluate the effectiveness of CIU programs for implementing CALEA solutions in the Public Switched Telephone Network (PSTN). Affected Telecommunications Service Providers (TSP) will be asked to identify the platforms within their networks that have CALEA responsibility. For each identified platform the TSP must specify if it is CALEA ready (Law Enforcement can obtain a CALEA surveillance). If the platform is not CALEA ready, the TSP is asked to identify the software release that provides CALEA functionality and the date when the platform anticipate installing that software release.

(5) An estimate of the total number of respondents and the amount of time estimated for an average respondent to respond: It is estimated that 3483 TSPs will provide 21,323 responses. Each response is estimated to take 15 minutes to complete.

(6) An estimate of the public burden (in hours) associated with the collection: There are an estimated 5,330.75 total annual burden hours associated with this collection.

FOR FURTHER INFORMATION CONTACT: Brenda E. Dyer, Department Clearance Officer, United States Department of Justice, Justice Management Division, Policy and Planning Staff, Patrick Henry Building, Suite 1600, 601 D Street, NW., Washington, DC 20530.

Dated: April 8, 2005.
Brenda E. Dyer,
Department Clearance Officer, Department of Justice.

[FR Doc. 05-7393 Filed 4-12-05; 8:45 am]

BILLING CODE 4410-02-P